DEPARTMENT OF ENERGY

Federal Energy Regulatory Commission

[Docket No. E01-367-000, et al.]

New York State Electric & Gas Corporation, et al.; Electric Rate and Corporate Regulation Filings

November 13, 2000.

Take notice that the following filings have been made with the Commission:

1. New York State Electric & Gas Corporation

[Docket No. ER01-367-000]

Take notice that on November 6, 2000, New York State Electric & Gas Corporation (NYSEG), tendered for filing pursuant to Section 205 of the Federal Power Act and Section 35.13 of the Federal Energy Regulatory Commission's (FERC or Commission) Regulations, a supplement to Rate Schedule 117 filed with FERC corresponding to an Agreement with the Delaware County Electric Cooperative (the Cooperative). The proposed supplement would decrease revenues by $648.27 based on the twelve month period ending December 31, 2001.

This rate filing is made pursuant to Section 1 (c) and Section 3 (a) through (c) of Article IV of the June 1, 1977 Facilities Agreement between NYSEG and the Cooperative, filed with FERC. The annual charges for routine operation and maintenance and general expenses, as well as revenue and property taxes are revised based on data taken from NYSEG's Annual Report to the Federal Energy Regulatory Commission (FERC Form 1) for the twelve month ended December 31, 1999. The revised facilities charge is levied on the cost of the 34.5 kV tie line from Taylor Road to the Jefferson Substation, constructed by NYSEG for the sole use of the Cooperative.

NYSEG requests an effective date of January 1, 2001.

Copies of the filing were served upon the Delaware County Electric Cooperative , Inc. and the Public Service Commission of the State of New York.

Comment date: November 27, 2000, in accordance with Standard Paragraph E at the end of this notice.

2. New York State Electric & Gas Corporation

[Docket No. ER01-370-000]

Take notice that on November 6, 2000, New York State Electric & Gas Corporation (NYSEG), tendered for filing pursuant to Section 205 of the Federal Power Act and Section 35.13 of the Federal Energy Regulatory Commission's (FERC or Commission) Regulations, a supplement to Rate Schedule 194 filed with FERC corresponding to an Agreement with the Steuben Rural Electric Cooperative (the Cooperative). The proposed supplement would decrease revenues by $2,171.37 based on the twelve month period ending December 31, 2001.

This rate filing is made pursuant to Article IV, Section B of the February 26, 1999 Facilities Agreement between NYSEG and the Cooperative, filed with FERC. The annual charges for routine operation and maintenance and general expenses, as well as revenue and property taxes are revised based on data taken from NYSEG's Annual Report to the Federal Energy Regulatory Commission (FERC Form 1) for the twelve month ended December 31, 1999. The revised facilities charge is levied on the cost of the tap of NYSEG's South Addison to Presho 34.5 kV transmission line. Such tap of NYSEG's transmission line connects to the Cooperative's Sullivan Road Substation and is for the sole use of the Cooperative.

NYSEG requests an effective date of January 1, 2001.

Copies of the filing were served upon the Steuben Rural Electric Cooperative , Inc. and the Public Service Commission of the State of New York.

Comment date: November 27, 2000, in accordance with Standard Paragraph E at the end of this notice.

3. Public Service Company of New Mexico

[Docket No. ER01-371-000]

Take notice that on November 6, 2000, Public Service Company of New Mexico (PNM), tendered for filing an executed service agreement for short term firm point to point transmission service under the terms of PNM's Open Access Transmission Tariff (OATT) with Southwestern Public Service Company (SPS), dated July 19, 2000. PNM's filing is available for public inspection at its offices in Albuquerque, New Mexico.

Copies of the filing have been sent to SPS and to the New Mexico Public Regulation Commission.

Comment date: November 27, 2000, in accordance with Standard Paragraph E at the end of this notice.

4. New England Power Company

[Docket No. ER01-372-000]

Take notice that on November 6, 2000, New England Power Company (NEP), tendered for filing a proposed amendment (Amendment) to the Service Agreement for Firm Local Generation Delivery Service under NEP's Open Access Transmission Tariff, FERC Electric Tariff, Original Volume No. 9, between NEP and ANP Bellingham Energy Company. NEP states that the Amendment was filed to correct a typographical error contained on Sheet No. 187A-1 of the Service Agreement.

NEP states that this filing has been served upon ANP Bellingham Energy Company and regulators in the Commonwealth of Massachusetts.

Comment date: November 27, 2000, in accordance with Standard Paragraph E at the end of this notice.

5. Tiger Natural Gas, Inc.

[Docket No. ER01-373-000]

Take notice that on November 6, 2000, Tiger Natural Gas, Inc. (Tiger) petitioned the Commission for acceptance of Tiger Rate Schedule FERC No. 1; the granting of certain blanket approvals, including the authority to sell electricity at market-based rates; and the waiver of certain Commission regulations. Tiger intends to engage in wholesale electric power and energy purchases and sales, and retail sales as a marketer. Tiger is not in the business of generating or transmitting electric power. Tiger is a minority owned and operated business with SBA 8(a) certification that focuses its knowledge and expertise primarily on the end use customer.

Comment date: November 27, 2000, in accordance with Standard Paragraph E at the end of this notice.

6. Western Resources, Inc.

[Docket No. ER01-375-000]

Take notice that on November 6, 2000, Western Resources, Inc.(WR), tendered for filing a Service Agreement between WR and Allegheny Energy Service Corporation (Allegheny). WR states that the purpose of this agreement is to permit Allegheny to take service under WR' Market Based Power Sales Tariff on file with the Commission.

This agreement is proposed to be effective October 31, 2000.

Copies of the filing were served upon Allegheny and the Kansas Corporation Commission.

Comment date: November 27, 2000, in accordance with Standard Paragraph E at the end of this notice.

7. Wisconsin Electric Power Company

[Docket No. ER01-376-000]

Take notice that on November 6, 2000, Wisconsin Electric Power Company (Wisconsin Electric), tendered for filing an electric service agreement under its Market Rate Sales Tariff (FERC Electric Tariff, Original Volume No. 8) with Split Rock Energy LLC Wisconsin Electric respectfully requests an effective date of November 1, 2000 to allow for economic transactions.

Copies of the filing have been served on Split Rock Energy LLC, the Michigan Public Service Commission, and the Public Service Commission of Wisconsin.

Comment date: November 27, 2000, in accordance with Standard Paragraph E at the end of this notice.

8. Energy.com Corporation

[Docket No. ER01-377-000]

Take notice that on November 6, 2000, Energy.com Corporation (Energy.com) petitioned the Commission for acceptance of Energy.com Rate Schedule FERC No. 1; the granting of certain blanket approvals, including the authority to sell electricity at market-based rates; and the waiver of certain Commission regulations.

Energy.com intends to engage in wholesale electric power and energy transactions as a marketer and a broker. Energy.com is not in the business of generating or transmitting electric power. Energy.com is a wholly-owned subsidiary of eVulkan, Inc., d/b/a beMANY. In transactions where Energy.com sells electric power it proposes to make such sales on rates, terms, and conditions to be mutually agreed to with the purchasing party.

Comment date: November 27, 2000, in accordance with Standard Paragraph E at the end of this notice.

9. The Detroit Edison Company

[Docket No. ER01-378-000]

Take notice that on November 6, 2000, The Detroit Edison Company (Detroit Edison), tendered for filing a Service Agreement (Service Agreement) for Firm Point-to-Point Transmission Service under the Joint Open Access Transmission Tariff of Consumers Energy Company and Detroit Edison, FERC Electric Tariff No. 1. This Service Agreement is between Detroit Edison and Quest Energy, L.L.C., dated as of September 20, 2000. The parties have not engaged in any transactions under the Service Agreement prior to thirty days to this filing.

Detroit Edison requests that the Service Agreement be made effective as rate schedules as of October 23, 2000.

Comment date: November 27, 2000, in accordance with Standard Paragraph E at the end of this notice.

10. American Transmission Company LLC

[Docket No. ER01-381-000]

Take notice that on November 6, 2000, American Transmission Company LLC (ATCLLC), tendered for filing a Network Integration Transmission Service and a Distribution-Transmission Interconnection Agreement between ATCLLC and Madison Gas and Electric Company.

ATCLLC requests an effective date of January 1, 2001.

Comment date: November 27, 2000, in accordance with Standard Paragraph E at the end of this notice.

11. Alliant Energy Corporate Services, Inc.

[Docket No. ER01-379-000]

Take notice that on November 6, 2000, Alliant Energy Corporate Services, Inc., tendered for filing executed Service Agreements for short-term firm point-to-point transmission service and non-firm point-to-point transmission service, establishing Minnesota Municipal Power Agency as a point-to-point Transmission Customer under the terms of the Alliant Energy Corporate Services, Inc., transmission tariff.

Alliant Energy Corporate Services, Inc. requests an effective date of June 6, 2000, and accordingly, seeks waiver of the Commission's notice requirements.

A copy of this filing has been served upon the Illinois Commerce Commission, the Minnesota Public Utilities Commission, the Iowa Department of Commerce, and the Public Service Commission of Wisconsin.

Comment date: November 27, 2000, in accordance with Standard Paragraph E at the end of this notice.

12. American Transmission Systems, Inc.

[Docket No. ER01-382-000]

Take notice that on November 7, 2000, American Transmission Systems, Inc. filed Service Agreements to provide Firm Point-to-Point Transmission Service for Wolverine Power Supply Cooperative, Inc., NRG Power Marketing, Inc., and Powerex Corp., the Transmission Customers. Services are being provided under the American Transmission Systems, Inc. Open Access Transmission Tariff submitted for filing by the Federal Energy Regulatory Commission in Docket No. ER99-2647-000.

The proposed effective date under the Service Agreements is October 31, 2000 for the above mentioned Service Agreements in this filing.

Comment date: November 28, 2000, in accordance with Standard Paragraph E at the end of this notice.

13. Virginia Electric and Power Company

[Docket No. ER01-383-000]

Take notice that on November 7, 2000, Virginia Electric and Power Company (Dominion Virginia Power or the Company), tendered for filing the following:

Retail Network Integration Transmission Service and Network Operating Agreement (Service Agreement) by Virginia Electric and Power Company to Old Dominion Electric Cooperative designated as Service Agreement No. 307 under the Company's Retail Access Pilot Program, pursuant to Attachment L of the Company's Open Access Transmission Tariff, FERC Electric Tariff, Second Revised Volume No. 5, to Eligible Purchasers effective June 7, 2000.

Dominion Virginia Power requests an effective date of November 7, 2000, the date of filing of the Service Agreement.

Copies of the filing were served upon Old Dominion Electric Cooperative, the Virginia State Corporation Commission, and the North Carolina Utilities Commission.

Comment date: November 28, 2000, in accordance with Standard Paragraph E at the end of this notice.

14. Wisconsin Electric Power Company

[Docket No. ER01-384-000]

Take notice that on November 7, 2000, Wisconsin Electric Power Company (Wisconsin Electric), tendered for filing a Standby Service Facilities Agreement with the city of New London Utilities (New London), and revisions to its Revised Power Sales Agreement (PSA) with Wisconsin Public Power Inc. (WPPI) to update Exhibit B on delivery points.

Wisconsin Electric respectfully requests an effective date of October 11, 2000.

Copies of the filing have been served on New London, WPPI, the Michigan Public Service Commission, and the Public Service Commission of Wisconsin.

Comment date: November 28, 2000, in accordance with Standard Paragraph E at the end of this notice.

15. Virginia Electric and Power Company

[Docket No. ER01-385-000]

Take notice that on November 7, 2000, Virginia Electric and Power Company (Dominion Virginia Power), tendered for filing the Service Agreement between Virginia Electric and Power Company and AEP Retail Energy LLC. Under the Service Agreement, Dominion Virginia Power will provide services to AEP Retail Energy LLC under the terms of the Company's Revised Market-Based Rate Tariff designated as FERC Electric Tariff (Third Revised Volume No. 4), which was accepted by order of the Commission dated August 30, 2000 in Docket No. ER00-1737-001.

Dominion Virginia Power requests an effective date of January 15, 2001, the date service is first requested by the customer.

Copies of the filing were served upon AEP Retail Energy LLC, the Virginia State Corporation Commission and the North Carolina Utilities Commission.

Comment date: November 28, 2000, in accordance with Standard Paragraph E at the end of this notice.

16. American Transmission Systems, Inc.

[Docket No. ER01-386-000]

Take notice that on November 7, 2000, American Transmission Systems, Inc., tendered for filing Service Agreements to provide Non-Firm Point-to-Point Transmission Service for Wolverine Power Supply Cooperative, Inc., NRG Power Marketing, Inc., and Powerex Corp., the Transmission Customers. Services are being provided under the American Transmission Systems, Inc. Open Access Transmission Tariff submitted for filing by the Federal Energy Regulatory Commission in Docket No. ER99-2647-000.

The proposed effective date under the Service Agreements is October 31, 2000 for the above mentioned Service Agreements in this filing.

Comment date: November 28, 2000, in accordance with Standard Paragraph E at the end of this notice.

17. Allegheny Energy Service Corporation on behalf of Allegheny Energy Supply Company, LLC

[Docket No. ER01-387-000]

Take notice that on November 7, 2000, Allegheny Energy Service Corporation on behalf of Allegheny Energy Supply Company, LLC (Allegheny Energy Supply), tendered for filing Service Agreement No. 98 to add one (1) new Customer to the Market Rate Tariff under which Allegheny Energy Supply offers generation services.

Allegheny Energy Supply requests a waiver of notice requirements to make service available as of November 6, 2000 to Powerex Corp.

Copies of the filing have been provided to the Public Utilities Commission of Ohio, the Pennsylvania Public Utility Commission, the Maryland Public Service Commission, the Virginia State Corporation Commission, the West Virginia Public Service Commission, and all parties of record.

Comment date: November 28, 2000, in accordance with Standard Paragraph E at the end of this notice.

18. Calumet Energy Team, LLC

[Docket No. ER01-389-000]

Take notice that on November 7, 2000, Calumet Energy Team, LLC (Seller), a limited liability company organized under the laws of the State of Delaware, petitioned the Commission for an order: (1) accepting Seller's proposed FERC Electric Tariff (Market-Based Rate Tariff); (2) granting waiver of certain requirements under Subparts B and C of Part 35 of the regulations, and (3) granting the blanket approvals normally accorded sellers permitted to sell at market-based rates. Seller is developing a nominally 300 MW generating facility in Chicago, Illinois.

Comment date: November 28, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Linwood A. Watson, Jr.,
Acting Secretary.

[FR Doc. 00-29738 Filed 11-20-00; 8:45 am]

BILLING CODE 6717-01-P